DEPARTMENT OF ENERGY

Federal Energy Regulatory Commission

[Docket No. CP02-378-002]

Cameron LNG, LLC; Notice of Amendment To Authorization

December 20, 2004.

Take notice that on December 9, 2004, Cameron LNG, LLC (Cameron) filed a request under section 3 of the NGA for an amendment to its authorization for import facilities that was previously granted in Docket No. CP02-378-000. Cameron notes that, order issued on September 11, 2003, Cameron was authorized to construct and operate facilities to import liquefied natural gas (LNG) near Hackberry, Cameron Parish, Louisiana.

Cameron seeks amended authority to make modifications to the berthing facilities at its LNG terminal. Cameron requests approval to modify the terminal's berthing facilities to allow a larger variety of LNG tankers to use the approved LNG terminal. Cameron says that it has determined that certain limited changes to facilities appurtenant to its LNG import terminal are desirable in order to: (1) Enhance operational safety; (2) improve the ability of LNG tankers to perform emergency departures; and (3) accommodate the berthing of the next generation of larger LNG tankers. The proposed modifications will require increased dredging and the addition of soil depositional areas to accommodate increased dredge material. The modifications also will require either the abandonment in place or relocation of portions of pipeline(s) owned by Hilcorp Energy I, L.P. that transverse through the terminal and berthing area.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: January 12, 2005.

Magalie R. Salas,
Secretary.

[FR Doc. E4-3836 Filed 12-27-04; 8:45 am]

BILLING CODE 6717-01-P